DEPARTMENT OF TRANSPORTATION

Federal Aviation Administration

14 CFR Part 71

[Docket No. FAA-2020-0944; Airspace Docket No. 20-ACE-26]

RIN 2120-AA66

Proposed Amendment of V-67, V-190, and V-429; Establishment of T-312; and Revocation of V-125 and V-335 in the Vicinity of Marion, IL

AGENCY: Federal Aviation Administration (FAA), DOT.

ACTION: Notice of proposed rulemaking, correction.

SUMMARY: The FAA is correcting the airspace docket number listed in a notice of proposed rulemaking (NPRM) that published in the Federal Register of November 5, 2020. That NPRM proposing to amend VHF Omnidirectional Range (VOR) Federal airways V-67, V-190, and V-429; establish Area Navigation (RNAV) route T-312; and remove VOR Federal airways V-125 and V-335 in the vicinity of Marion, IL. This action reflects the correct airspace docket number.

DATES: Comments for the NPRM published on November 5, 2020 (85 FR 70532), continue to be accepted on or before December 21, 2020, to be considered in the formulation of a rule determination.

FOR FURTHER INFORMATION CONTACT: Colby Abbott, Rules and Regulations Group, Office of Policy, Federal Aviation Administration, 800 Independence Avenue SW, Washington, DC 20591; telephone: (202) 267-8783.

SUPPLEMENTARY INFORMATION:

Background

The FAA published a NPRM for Docket No. FAA-2020-0944 in the Federal Register (85 FR 70532; November 5, 2020), for amending VOR Federal airways V-67, V-190, and V-429; establishing RNAV route T-312; and removing VOR Federal airways V-125 and V-335 in the vicinity of Marion, IL. Subsequent to publication, it was determined that the airspace docket number for the NPRM incorrectly listed the FAA regional abbreviation for the geographic area that the airspace action falls within as “AGL” instead of “ACE”. The correct airspace docket number is “20-ACE-26” and is reflected in the heading of this correction.

Need for Correction

As published, the NPRM contained an error in the airspace docket number listed in the header, ADDRESSES, and Comments Invited sections which is misleading and requires correction. This corrective action is necessary to avoid confusion as to the correct airspace docket number for that rulemaking, Docket No. FAA-2020-0944. The FAA will review and consider comments submitted on or before December 21, 2020, to the incorrect docket, but this action establishes what the correct airspace docket number is for this rulemaking.

Correction to NPRM

Accordingly, pursuant to the authority delegated to me, the airspace docket number reflected in Docket No. 2020-0944, as published in the Federal Register of November 5, 2020 (85 FR 70532, FR Doc. 2020-24489), is corrected as follows:

1. In FR Doc. 2020-24489, appearing on page 70532, in the first column, at line 5, correct “20-AGL-26” to read “20-ACE-26.”

2. In FR Doc. 2020-24489, appearing on page 70532, in the first column, at line 46, correct “20-AGL-26” to read “20-ACE-26.”

3. In FR Doc. 2020-24489, appearing on page 70532, in the second column, at lines 50 and 51, correct “20-AGL-26” to read “20-ACE-26.”

4. In FR Doc. 2020-24489, appearing on page 70532, in the second column, at line 64, correct “20-AGL-26” to read “20-ACE-26.”

Issued in Washington, DC, on November 9, 2020.
George Gonzalez,
Acting Manager, Rules and Regulations Group.

[FR Doc. 2020-25100 Filed 11-12-20; 8:45 am]

BILLING CODE 4910-13-P